DEPARTMENT OF JUSTICE

Antitrust Division

Notice Pursuant to the National Cooperative Research and Production Act of 1993—Medical Technology Enterprise Consortium

Notice is hereby given that, on January 6, 2025, pursuant to section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, AccelerMED LLC, Shoreview, MN; Aegir Enterprises LLC, Jamul, CA; ANT5 Co., Ltd., Ube, JAPAN; ARNAV Biotech, Atlanta, GA; Artery Studios, Inc., Toronto, CANADA; Astrapi Corp., Dallas, TX; Athena Consulting Group LLC, North Charleston, SC; Auxilium Health, Inc., Cleveland, OH; Berkeley Fit LLC, San Diego, CA; Circuit Design Specialties, Inc., Plano, TX; Clinical Research Strategies LLC, Wexford, PA; Curavit Clinical Research, Scarsdale, NY; DatavizVR, Inc. dba 3Data, Austin, TX; DesignPlex Biomedical LLC, Fort Worth, TX; ECS Federal LLC, Fairfax, VA; Evimero LLC, Tuscaloosa, AL; Exsurgo Technologies LLC, Ashburn, VA; Functional Longevity Labs, Inc., Easton, MD; Green Immune LLC, Columbus, GA; HereNow Help, Inc., Honeoye, NY; Hermtac LLC, Dallas, TX; ICON Government and Public Health Solutions, Inc., Blue Bell, PA; InflammaSense, Inc., Carlsbad, CA; Institute for Evolvable Medicines, Oakland, CA; Jaunt LLC, Mesa, AZ; Key Technologies, Inc., Baltimore, MD; Machina Medical, Inc., Roswell, GA; Microbion Corp., Bozeman, MT; NCS Technologies, Inc., Manassas, VA; Neolixir, Ltd., Nedlands, AUSTRALIA; NeuEsse, Inc., Dunbar, PA; Physical Sciences, Inc., Andover, MA; POP Biotechnologies, Inc., Buffalo, NY; Qumulo, Inc., Seattle, WA; SightLine Ventures, Dayton, OH; Songhi Innovations, Fountain, CO; Teleflex, Inc., Morrisville, NC; Texas Biomedical Research Institute, San Antonio, TX; The Neutrino Donut LLC, Culver City, CA; University of Tennessee, Knoxville, TN; University of Utah, Salt Lake City, UT; Varada Consulting LLC, Vienna, VA; and Zeteo Tech, Inc., Sykesville, MD have been added as parties to this venture.

No other changes have been made in either the membership or planned activity of the group research project. Membership in this group research project remains open, and MTEC intends to file additional written notifications disclosing all changes in membership.

On May 9, 2014, MTEC filed its original notification pursuant to section 6(a) of the Act. The Department of Justice published a notice in the Federal Register pursuant to section 6(b) of the Act on June 9, 2014(79 FR 32999).

The last notification was filed with the Department on October 7, 2024. A notice was published in the Federal Register pursuant to section 6(b) of the Act on December 20, 2024 (89 FR 104210).

Suzanne Morris,
Deputy Director Civil Enforcement Operations, Antitrust Division.

[FR Doc. 2025-02186 Filed 2-3-25; 8:45 am]

BILLING CODE P